DEPARTMENT OF DEFENSE

Office of the Secretary

[Docket ID: DOD-2010-OS-0010]

Privacy Act of 1974; Systems of Records

AGENCY: National Security Agency/Central Security Service, DoD.

ACTION: Notice to alter a system of records.

SUMMARY: The National Security Agency (NSA) is proposing to alter a system of records notice in its inventory of record systems subject to the Privacy Act of 1974, (5 U.S.C. 552a), as amended.

DATES: This proposed action will be effective without further notice on March 8, 2010, unless comments are received which would result in a contrary determination.

ADDRESSES: You may submit comments, identified by docket number and title, by any of the following methods.

• Federal eRulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill at (301) 688-6527.

SUPPLEMENTARY INFORMATION: The National Security Agency's systems of notices subject to the Privacy Act of 1974 (5 U.S.C. 552a), as amended, have been published in the Federal Register and are available from the address above.

The proposed system reports, as required by 5 U.S.C. 552a(r), of the Privacy Act of 1974, as amended, were submitted on January 29, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: February 1, 2010.
Mitchell S. Bryman,
Alternate OSD Federal Register Liaison Officer, Department of Defense.

GNSA 15

SYSTEM NAME:

NSA/CSS Computer Users Control System (February 22, 1993; 58 FR 10531).

CHANGES:

* * * * *

AUTHORITY FOR MAINTENANCE OF THE SYSTEM:

Delete entry and replace with “Subchapter III of the Federal Information Security Management Act of 2002 (Title III of Pub. L. 107-347); Subtitle III of 40 U.S.C., Information Technology Management; 10 U.S.C. 2224, Defense Information Assurance Program; E.O. 12333, as amended, United States Intelligence Activities; Department of Defense Directive 8500.1, Information Assurance; Department of Defense Instruction 8500.2, Information Assurance Implementation and E.O. 9397 (SSN), as amended”.

PURPOSE(S):

Delete entry and replace with “To administer, monitor, and track the use and access of NSA/CSS networks, computers, software, and databases. The records may also be used to identify the occurrence of and assist in the prevention of computer misuse”.

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records contained therein may specifically be disclosed outside the DoD as a routine use pursuant to 5 U.S.C. 552a(b)(3) as follows:

To appropriate governmental agencies and the judicial branch where litigation or anticipated civil or criminal litigation is involved or where sensitive national security investigations related to protection of intelligence sources and methods are involved.

The “DoD Blanket Routine Uses” set forth at the beginning of the NSA/CSS' compilation of systems of records notices apply to this system.”

STORAGE:

Delete entry and replace with “Paper in file folders and electronic storage media”.

* * * * *

SAFEGUARDS:

Delete entry and replace with “Buildings are secured by a series of guarded pedestrian gates and checkpoints. Access to facilities is limited to security-cleared personnel and escorted visitors only. Within the facilities themselves, access to paper and computer printouts are controlled by limited-access facilities and lockable containers. Access to electronic means is controlled by computer password protection.”

RETENTION AND DISPOSAL:

Delete entry and replace with “Delete/destroy when agency determines they are no longer needed for administrative, legal, audit, or other operational purposes.

Records are destroyed by pulping, burning, shredding, or erasure or destruction of electronic media.”

SYSTEM MANAGER(S) AND ADDRESS:

Delete entry and replace with “Deputy Director, Enterprise Information Technology Services, National Security Agency/Central Security Service, Ft. George G. Meade, MD 20755-6000.”

NOTIFICATION PROCEDURE:

Delete entry and replace with “Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.”

RECORD ACCESS PROCEDURES:

Delete entry and replace with “Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.”

CONTESTING RECORD PROCEDURES:

Delete entry and replace with “The NSA/CSS rules for contesting contents and appealing initial determinations are published at 32 CFR part 322 or may be obtained by written request addressed to the National Security Agency/Central Security Service, Freedom of Information Act/Privacy Act Office, 9800 Savage Road, Ft. George G. Meade, MD 20755-6000.”

* * * * *

GNSA 15

SYSTEM NAME:

NSA/CSS Computer Users Control System.

SYSTEM LOCATION:

National Security Agency/Central Security Service, Ft. George G. Meade, MD 20755-6000.

CATEGORIES OF INDIVIDUALS COVERED BY THE SYSTEM:

Users of National Security Agency/Central Security Service computers and software.

CATEGORIES OF RECORDS IN THE SYSTEM:

The user's name, Social Security Number, an assigned identification (I.D.) code, organization, work phone number, terminal identification, system name, programs accessed or attempted to access, data files used and date and time logged onto and off the system.

AUTHORITY FOR MAINTENANCE OF THE SYSTEM:

Subchapter III of the Federal Information Security Management Act of 2002 (Title III of Pub. L. 107-347); Subtitle III of 40 U.S.C., Information Technology Management; 10 U.S.C. 2224, Defense Information Assurance Program; E.O. 12333, as amended, United States Intelligence Activities; Department of Defense Directive 8500.1, Information Assurance; Department of Defense Instruction 8500.2, Information Assurance Implementation and E.O. 9397 (SSN), as amended.

PURPOSE(S):

To administer, monitor, and track the use and access of NSA/CSS networks, computers, software, and databases. The records may also be used to identify the occurrence of and assist in the prevention of computer misuse.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To appropriate governmental agencies and the judicial branch where litigation or anticipated civil or criminal litigation is involved or where sensitive national security investigations related to protection of intelligence sources and methods are involved.

The “DoD Blanket Routine Uses” set forth at the beginning of the NSA/CSS' compilation of systems of records notices apply to this system.

POLICIES AND PRACTICES FOR STORING, RETRIEVING, ACCESSING, RETAINING, AND DISPOSING OF RECORDS IN THE SYSTEM:

STORAGE:

Paper in file folders and electronic storage media.

RETRIEVABILITY:

Records are retrieved by the user's name, Social Security Number, or assigned identification (I.D.) code.

SAFEGUARDS:

Buildings are secured by a series of guarded pedestrian gates and checkpoints. Access to facilities is limited to security-cleared personnel and escorted visitors only. Within the facilities themselves, access to paper and computer printouts are controlled by limited-access facilities and lockable containers. Access to electronic means is controlled by computer password protection.

RETENTION AND DISPOSAL:

Delete/destroy when agency determines they are no longer needed for administrative, legal, audit, or other operational purposes.

Records are destroyed by pulping, burning, shredding, or erasure or destruction of electronic media.

SYSTEM MANAGER(S) AND ADDRESS:

Deputy Director, Enterprise Information Technology Services, National Security Agency/Central Security Service, Ft. George G. Meade, MD 20755-6000.

NOTIFICATION PROCEDURE:

Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.

RECORD ACCESS PROCEDURES:

Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.

CONTESTING RECORD PROCEDURES:

The NSA/CSS rules for contesting contents and appealing initial determinations are published at 32 CFR part 322 or may be obtained by written request addressed to the National Security Agency/Central Security Service, Freedom of Information Act/Privacy Act Office, 9800 Savage Road, Ft. George G. Meade, MD 20755-6000.

RECORD SOURCE CATEGORIES:

Contents of the record are obtained from the individual about whom the record pertains, from administrative personnel and computer system administrators, and a self-generated computer program.

EXEMPTIONS CLAIMED FOR THE SYSTEM:

Portions of this file may be exempt pursuant to 5 U.S.C. 552a(k)(2), as applicable.

Investigative material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this record system has been promulgated according to the requirements of 5 U.S.C. 553(b)(1), (2), and (3), (c) and (e) and published in 32 CFR part 322. For additional information contact the system manager.

[FR Doc. 2010-2442 Filed 2-4-10; 8:45 am]

BILLING CODE 5001-06-P